DEPARTMENT OF LABOR

Office of the Secretary

Submission for OMB Emergency Review; Comment Request

May 5, 2000.

The Department of Labor has submitted the following (see below) information collection request (ICR), utilizing emergency review procedures, to the Office of Management and Budget (OMB) for review and clearance in accordance with the Paperwork Reduction Act of 1995 (Pub. L. 104-13, 44 U.S.C. Chapter 35). OMB approval has been requested by June 27, 2000. A copy of this ICR, with applicable supporting documentation, may be obtained by calling the Department of Labor Departmental Clearance Officer, Ira L. Mills, on 202-219-5095 ext. 129.

Comments and questions about the ICR listed below should be forwarded to the Office of Information and Regulatory Affairs, Attn: OMB Desk Officer for the Bureau of Labor Statistics, Office of Management and Budget, Room 10235, Washington, D.C. 20503.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used; enhance the quality, utility, and clarity of the information to be collected; and

• Minimize the burden of the collection of information on those who are to respond, including through the use of appropriate automated, electronic, mechanical, or other technological collection techniques or other forms of information technology, e.g., permitting electronic submissions of responses.

Agency: Bureau of Labor Statistics.

Title: July 2000 Current Population Survey Supplement on Race and Ethnicity.

OMB Number: 1220-0155. Reinstatement, with change, of a previously approved collection for which approval has expired.

Frequency: On occasion.

Affected Public: Individuals and households.

Number of Respondents: 120,000.

Estimated Time Per Respondent: 2 minutes.

Total Burden Hours: 4,000 hours.

Total Burden Cost (capital/startup): $0.

Total Burden Cost (operating/maintaining): $0.

Description: The purpose of the July 2000 Current Population Survey (CPS) Supplement on Race and Ethnicity, conducted by the Bureau of Labor Statistics (BLS), is to investigate the effects of changes to the race and ethnicity questions that will be implemented in January 2003. These changes are designed to conform to the 1997 standards on the collection of racial and ethnic data issued by the Office of Management and Budget (OMB). The collection of these data now will allow the BLS to examine changes in the reporting of economic characteristics of racial and ethnic groups that are likely to result from implementation in 2003. The BLS also will use Supplement data to evaluate bridging alternatives for use with trend analysis. The supplement data can be used to inform other survey programs about the probable effects of adopting the new standards in their surveys.

Ira L. Mills,
Departmental Clearance Officer.

[FR Doc. 00-11828 Filed 5-10-00; 8:45 am]

BILLING CODE 4510-24-M